DEPARTMENT OF THE INTERIOR

Fish and Wildlife Service

Mississippi Sandhill Crane National Wildlife Refuge

AGENCY: Fish and Wildlife Service, Interior.

ACTION: Notice of Availability of the Final Comprehensive Conservation Plan (CCP) and Finding of No Significant Impact (FONSI).

SUMMARY: We, the Fish and Wildlife Service, announce our decision and the availability of the Final CCP and FONSI for Mississippi Sandhill Crane Refuge in Jackson County, Mississippi. The CCP was prepared pursuant to the National Wildlife Refuge System Improvement Act of 1997, and in accordance with the National Environmental Policy Act of 1969, and describes how the refuge will be managed for the next 15 years.

ADDRESSES: A copy of the CCP/FONSI may be obtained by writing to: Lloyd Culp, Refuge Manager, Mississippi Sandhill Crane National Wildlife Refuge, 7200 Crane Lane, Gautier, MS 39553; Telephone: 228/497-6322; Fax 228/497-5407. The CCP/FONSI may also be accessed and downloaded from the Service's Internet Web site: http://southeast.fws.gov/planning.

SUPPLEMENTARY INFORMATION: With this notice, we finalize the CCP process for Mississippi Sandhill Crane National Wildlife Refuge, begun as announced in the Federal Register (70 FR 30478; May 26, 2005). For more about the process, see that notice. We released the Draft CCP and Environmental Assessment (EA) to the public, requesting comments in a notice of availability in the Federal Register (71 FR 67627; November 22, 2006).

Mississippi Sandhill Crane National Wildlife Refuge was established in 1975 to safeguard the critically endangered Mississippi sandhill crane and its unique disappearing habitat.

With this notice, we announce our decision and the availability of the Final CCP/FONSI in accordance with the National Environmental Policy Act [40 CFR § 1506.6(b)] requirements. We completed a thorough analysis of the environmental, social, and economic considerations, which we included in the Final CCP/FONSI. The FONSI documents the selection of Alternative D, the preferred alternative.

The Draft CCP/EA identified and evaluated four alternatives for managing the refuge over the next 15 years. Under Alternative A, the no-action alternative, present management would have continued. Current approaches to managing and protecting cranes, other wildlife and habitats, and allowing for public use would have remain unchanged. Under Alternative B, the refuge would have emphasized its biological program by applying maximum efforts to enhance habitat conditions and increase wildlife populations, particularly the endangered crane. The visitor services program would have remained as it is at present. Under Alternative C, management would have focused on maximizing opportunities for public visitation, increasing both facilities and activities.

We chose Alternative D as the preferred alternative. This determination was made based on the best professional judgment of the planning team and the comments received on the Draft CCP/EA. Under this alternative, the refuge will strive to optimize both its biological program and its visitor services program. With regard to the Mississippi sandhill crane, the refuge's objective will be to provide for a self-sustaining crane population of 130 to 170 individuals, including 30-35 nesting pairs, fledging 10-15 young annually for at least 10 years.

Over the 15-year life of the plan, the staff will increase emphasis on environmental education and interpretation to lead to a better understanding of the importance of wildlife and habitat resources, especially sandhill cranes, savanna, fire ecology, invasive species, endangered species, and migratory birds. Research studies on the refuge will be fostered and partnerships developed with universities and other agencies, providing needed resources and experiment sites, while meeting the needs of the refuge's wildlife and habitat management programs. Research will also benefit conservation efforts throughout coastal Mississippi to conserve, enhance, restore, and manage native habitat. New surveys on birds, reptiles, and amphibians will be initiated to develop baseline information.

Authority: This notice is published under the authority of the National Wildlife Refuge System Improvement Act of 1997, Public Law 105-57.

Editorial Note: This document was received at the Office of the Federal Register on October 3, 2007.

Dated: April 26, 2007.
Cynthia K. Dohner,
Acting Regional Director.

[FR Doc. E7-19798 Filed 10-5-07; 8:45 am]

BILLING CODE 4310-55-P